NATIONAL CAPITAL PLANNING COMMISSION

Revised Adopted Submission Guidelines

AGENCY: National Capital Planning Commission.

ACTION: Notice of final adoption and effective date.

SUMMARY: At its May 6, 2021 monthly meeting, the National Capital Planning Commission (NCPC or Commission) adopted revised Submission Guidelines related to concept review of Master Plans and the purpose, need, and timing of an Information Presentations. The amended guidelines recommend an early concept review of complex master plans to ensure timely input from the Commission before a master plan advances to draft and final review. The amendments regarding Information Presentations identify the types of projects for which an Information Presentation is advisable and establish the appropriate timing for the presentation. Federal and non-federal agency applicants whose development proposals and plans are subject to statutory mandated Commission plan and project review must submit their proposals to the Commission following a process laid out in the Submission Guidelines.

DATES: The revised Submission Guidelines will become effective June 24, 2021.

ADDRESSES: The revised adopted Submission Guidelines are available online at: https://www.ncpc.gov/docs/Submission_Guidelines_May2021.pdf.

FOR FURTHER INFORMATION CONTACT: Matt Flis at (202) 482-7236 or info@ncpc.gov.

Authority: 40 U.S.C. 8721(e)(2).

Dated: May 19, 2021.
Anne R. Schuyler,
General Counsel.

[FR Doc. 2021-10954 Filed 5-24-21; 8:45 am]

BILLING CODE P